DEPARTMENT OF THE INTERIOR

National Park Service

[NPS-WASO-NAGPRA-NPS0028909; PPWOCRADN0-PCU00RP14.R50000]

Notice of Intent To Repatriate Cultural Items: Brooklyn Museum, Brooklyn, NY

AGENCY: National Park Service, Interior.

ACTION: Notice.

SUMMARY: The Brooklyn Museum, in consultation with the appropriate Indian Tribe, has determined that the cultural items listed in this notice meet the definition of sacred objects and objects of cultural patrimony. Lineal descendants or representatives of any Indian Tribe not identified in this notice that wish to claim these cultural items should submit a written request to the Brooklyn Museum. If no additional claimants come forward, transfer of control of the cultural items to the Indian tribe stated in this notice may proceed.

DATES: Lineal descendants or representatives of any Indian Tribe not identified in this notice that wish to claim these cultural items should submit a written request with information in support of the claim to the Brooklyn Museum at the address in this notice by November 8, 2019.

ADDRESSES: Nancy Rosoff, Andrew W. Mellon Senior Curator, Arts of the Americas, Brooklyn Museum, 200 Eastern Parkway, Brooklyn, NY 11238, phone (718) 501-6283, email nancy.rosoff@brooklynmuseum.org.

SUPPLEMENTARY INFORMATION: Notice is here given in accordance with the Native American Graves Protection and Repatriation Act (NAGPRA), 25 U.S.C. 3005, of the intent to repatriate five cultural items under the control of the Brooklyn Museum, Brooklyn, NY, that meet the definition of sacred objects and objects of cultural patrimony under 25 U.S.C. 3001.

This notice is published as part of the National Park Service's administrative responsibilities under NAGPRA, 25 U.S.C. 3003(d) (3). The determinations in this notice are the sole responsibility of the Brooklyn Museum. The National Park Service is not responsible for the determinations in this notice.

History and Description of the Cultural Items

The five cultural items described in this notice were accessioned by the Brooklyn Museum between 1901 and 1967. The five objects include three ceramic vessels and two pieces of dance regalia. Information on the ceremonial roles of the objects is based on consultation that took place at the Brooklyn Museum on November 28, 2018, and through later written correspondence.

One ceramic pitcher was collected in 1879 by Colonel James Stevenson at the Pueblo of Tesuque. In 1880, the pitcher entered the collection of the U.S. National Museum. It was transferred to the Brooklyn Museum in 1901. The pitcher is decorated with white, black, and red pigments. Design elements include clouds, rain, corn, and crosshatched geometric patterns. Tesuque representatives stated that the pitcher was used in community ceremonies.

One ceramic storage jar was collected by Captain C. W. Riggs, likely between 1876 and 1891. Riggs' catalog indicates that the jar was collected from the Pueblo of Cochiti. In 1902, the Brooklyn Museum purchased the storage jar along with a selection of other Pueblo pottery collected by Riggs. The jar is decorated with black designs—corn and circular motifs—on white pigment; the lower portion is painted red. While the jar was collected from the Pueblo of Cochiti, it's solid lines (without ceremonial breaks), wide mouth and tapered lower half, lack of human and animal figures, and presence of floral motifs all support a Tesuque origin. Consultants from the Pueblo of Tesuque identified this jar as one that would have been owned and used by Tesuque's Warrior Society.

One buffalo hide robe was purchased by Brooklyn Museum curator Stewart Culin in 1907 from Benham Indian Trading Company in Albuquerque, NM, for $30. The trading company reported that the robe had been collected by Dr. Thomas S. Dozier, who said that it came from Tesuque. The painted design is of the “box-and-border” type, which is found throughout the central Plains. Representatives from Tesuque said that this robe was used in the Comanche Dance and was likely purchased from Comanche traders for this purpose.

One headdress made from hide, dyed hair, horn, and fabric was also purchased by Brooklyn Museum curator Stewart Culin in 1907 from Benham Indian Trading Company in Albuquerque, NM. The only information provided by the store was that the headdress was from Tesuque. Representatives said that this headdress, like the buffalo hide robe, was worn for the Comanche Dance.

One seed bowl was purchased by Brooklyn resident J. L. Greason (1868-1967) when he was living in Oregon. The bowl was donated to the Brooklyn Museum by Greason's estate after his death in early 1967. Mrs. A. Gordon, whose relation to Greason is unknown, corresponded with the Museum regarding the donation. The small bowl is covered with beige slip and is decorated with black feather designs around the rim. Tesuque consultants identified this as a ceremonial bowl used to hold seeds.

Determinations Made by the Brooklyn Museum

Officials of the Brooklyn Museum have determined that:

• Pursuant to 25 U.S.C. 3001(3)(C), the five cultural items described above are specific ceremonial objects needed by traditional Native American religious leaders for the practice of traditional Native American religions by their present-day adherents.

• Pursuant to 25 U.S.C. 3001(3)(D), the five cultural items described above have ongoing historical, traditional, or cultural importance central to the Native American group or culture itself, rather than property owned by an individual.

• Pursuant to 25 U.S.C. 3001(2), there is a relationship of shared group identity that can be reasonably traced between the sacred objects and objects of cultural patrimony and the Pueblo of Tesuque, New Mexico.

Additional Requestors and Disposition

Lineal descendants or representatives of any Indian Tribe not identified in this notice that wish to claim these cultural items should submit a written request with information in support of the claim to Nancy Rosoff, Andrew W. Mellon Senior Curator, Arts of the Americas, Brooklyn Museum, 200 Eastern Parkway, Brooklyn, NY 11238, phone (718) 501-6283, email nancy.rosoff@brooklynmuseum.org, by November 8, 2019. After that date, if no additional claimants have come forward, transfer of control of the sacred objects and objects of cultural patrimony to the Pueblo of Tesuque, New Mexico, may proceed.

The Brooklyn Museum is responsible for notifying the Pueblo of Tesuque, New Mexico, that this notice has been published.

Dated: September 13, 2019.
Melanie O'Brien,
Manager, National NAGPRA Program.

[FR Doc. 2019-22050 Filed 10-8-19; 8:45 am]

BILLING CODE 4312-52-P